DEPARTMENT OF LABOR

Occupational Safety and Health Administration

[Docket No OSHA-2011-0007]

Maritime Advisory Committee for Occupational Safety and Health (MACOSH)

AGENCY: Occupational Safety and Health Administration (OSHA), Labor.

ACTION: Notice of MACOSH meeting.

SUMMARY: The Maritime Advisory Committee for Occupational Safety and Health (MACOSH) was established under Section 7 of the Occupational Safety and Health (OSH) Act of 1970 to advise the Secretary of Labor through the Assistant Secretary of Labor for Occupational Safety and Health on issues relating to occupational safety and health in the maritime industries. The purpose of this Federal Register notice is to announce that the Committee and workgroups will meet on July 19-20, 2011 in San Diego, CA.

DATES: MACOSH meeting: MACOSH will meet from 9 a.m. to 5 p.m. on July 19 and 20, 2011.

Submission of written statements, requests to speak, and requests for special accommodation: Written statements, requests to speak at MACOSH meetings, and requests for special accommodations for these meetings must be submitted (postmarked, sent, transmitted) by July 10, 2011.

ADDRESSES: MACOSH meeting: MACOSH will meet at the San Diego Marriott Del Mar, 11966 El Camino Real, San Diego, CA 92130. http://www.marriott.com/hotels/travel/sandm-san-diego-marriott-del-mar/.

Submission of written statements and requests to speak: You may submit written statements and requests to speak at the MACOSH meetings, identified by the docket number for this Federal Register notice (Docket No. OSHA-2011-0007), by one of the following methods:

Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit a copy of your comments and attachments to the OSHA Docket Office, Docket No. OSHA-2011-0007, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., E.T.

Requests for special accommodations: Submit requests for special accommodations for MACOSH and its workgroup meetings by hard copy, telephone, or e-mail to: Ms. Veneta Chatmon, OSHA, Office of Communications, Room N-3647, U.S. Department of Labor, 200 Constitution Avenue, NW., Washington, DC 20110; telephone: (202) 693-1999; e-mail chatmon.veneta@dol.gov.

Instructions: All submissions must include the Agency name and docket number for this Federal Register notice (Docket No. OSHA-2011-0007). Because of security-related procedures, submissions by regular mail may result in a significant delay in receipt. Please contact the OSHA Docket Office for information about security procedures for making submissions by hand delivery, express delivery, messenger, or courier service.

Written statements and requests to speak, including personal information provided, will be placed in the public docket and may be available online. Therefore, OSHA cautions interested parties about submitting personal information such as social security numbers and birthdates.

Docket: To read or download documents in the public docket for this MACOSH meeting, go to http://www.regulations.gov. All documents in the public docket are listed in the index; however, some documents (e.g., copyrighted material) are not publicly available to read or download through http://www.regulations.gov. All submissions are available for inspection and, where permitted, copying at the OSHA Docket Office at the address above. For information on using http://www.regulations.gov to make submissions or to access the docket, click on the “Help” tab at the top of the Home page. Contact the OSHA Docket Office for information about materials not available through that Web site and for assistance in using the Internet to locate submissions and other documents in the docket. Electronic copies of this Federal Register notice are available at http://www.regulations.gov. This notice, as well as news releases and other relevant information, is also available on the OSHA Web page at http://www.osha.gov.

FOR FURTHER INFORMATION CONTACT: For press inquiries: Frank Meilinger, OSHA's Office of Communications, U.S. Department of Labor, Room N-3647, 200 Constitution Avenue, NW., Washington, DC 20210; telephone: (202) 693-1999.

For general information about MACOSH and this meeting: Mr. Joseph V. Daddura, Director of the Office of Maritime Standards and Guidance, OSHA, U.S. Department of Labor, Room N-3609, 200 Constitution Avenue, NW., Washington, DC 20210; telephone: (202) 693-2080; e-mail Daddura.Joseph@dol.gov.

SUPPLEMENTARY INFORMATION: All MACOSH committee and workgroup meetings are open to the public. All interested persons are invited to attend the full MACOSH committee and its workgroup meetings at the time and place listed above. The tentative agenda will include: Discussions on single and multi-piece rim wheels; working safely around radiation; person in water (man overboard); fire watch responsibilities; ventilation safety; selection of welding shade; safe entry and work in vessel's sewage tanks; best practices in eye injury reduction; electrical safety; and injury and illness prevention plans.

The workgroups will meet from 9 a.m. until 5 p.m. on July 19, 2011 (room to be determined upon arrival). The workgroups will discuss topics on which they may focus for the duration of the current Committee charter. The full MACOSH Committee will meet July 20, 2011 (rooms to be determined upon arrival).

Public Participation: Interested parties may submit a request to make an oral presentation to MACOSH by any one of the methods listed in the ADDRESSES section above. The request must state the amount of time requested to speak, the interest represented (e.g., organization name), if any, and a brief outline of the presentation. Requests to address MACOSH may be granted as time permits and at the discretion of the MACOSH Chair.

Interested parties may also submit written statements, including data and other information, using any one of the methods listed in the ADDRESSES section above. OSHA will provide all submissions to MACOSH members prior to the meeting. Individuals who need special accommodations to attend the MACOSH meeting should contact Ms. Chatmon by one of the methods listed in the ADDRESSES section.

Authority and Signature

David Michaels, PhD, MPH, Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order No. 4-2010 (75 FR 55355), and 29 CFR part 1912.

Signed at Washington, DC, on June 24, 2011.
David Michaels,
Assistant Secretary of Labor for Occupational Safety and Health.

[FR Doc. 2011-16425 Filed 6-29-11; 8:45 am]

BILLING CODE 4510-26-P